DEPARTMENT OF DEFENSE

Notice of Intent To Prepare an Environmental Impact Statement for F-35 Operational Beddown—Air National Guard

AGENCY: Department of Defense, Department of the Air Force, National Guard Bureau.

ACTION: Notice of intent.

SUMMARY: The Air Force is issuing this notice to advise the public of its intent to prepare an Environmental Impact Statement for the beddown of two F-35A Air National Guard squadrons at two of five alternative installations. The Environmental Impact Statement will assess the potential environmental consequences of each alternative in support of the operational beddown.

Each squadron would consist of 18 Primary Aircraft Authorized and 2 Backup Aircraft Inventory. The proposed basing alternatives include: Truax Field in Madison, Wisconsin, Gowen Field in Boise, Idaho, Jacksonville International Airport in Jacksonville, Florida, Selfridge Air National Guard Base in Harrison Township, Michigan, and Dannelly Field in Montgomery, Alabama.

DATES: The Air National Guard will hold scoping meetings from 5:00 p.m. to 8:00 p.m. in the following communities on the following dates in February and March, 2018:

1. Wednesday, February 21, L'Anse Creuse Public Schools Wheeler Community Center, 24076 Frederick V. Pankow Blvd., Clinton Township, Michigan.

2. Tuesday, February 27, Wyndham Garden Boise Airport Hotel Convention Center, 3300 S. Vista Ave., Boise, Idaho.

3. Thursday, March 1, Montgomery Regional Airport First Floor Rotunda and Conference Room, 4445 Selma Highway, Montgomery, Alabama.

4. Thursday, March 8, Crowne Plaza Madison Hotel, 4402 E Washington Ave., Madison, Wisconsin.

5. Tuesday, March 13, DoubleTree Hotel, Jacksonville Airport Aviation Ballroom, 2101 Dixie Clipper Dr., Jacksonville, Florida.

ADDRESSES: Scoping Comments may also be submitted to: Ms. Christel Johnson, National Guard Bureau, NGB/A4AM, Shepperd Hall, 3501 Fetchet Avenue, Joint Base Andrews, MD 20762-5157. You may also submit comments via the project website at www.ANGF35EIS.com.

SUPPLEMENTARY INFORMATION: The F-35A is being acquired in support of the Air National Guard mission. The F-35A would replace the legacy fighter aircraft at the selected installations (A-10, F-15, F-16). The project website provides more information on the Environmental Impact Analysis Process and can also be used to submit scoping comments. Though the Air National Guard will continue to accept comments until publication of the Draft Environmental Impact Statement, scoping comments should be submitted no later than April 6, 2018 to ensure the Air National Guard has sufficient time to consider comments submitted.

Scoping: The Air National Guard will hold scoping meetings to solicit comments and concerns about the proposal and to effectively define the full range of issues and concerns to be evaluated in the Environmental Impact Statement. Scoping meetings will be held in the local communities near the alternative installations. The scheduled dates, times, locations, and addresses for the meetings are concurrently being published in local media.

Henry Williams,
Acting Air Force Federal Register Officer.

[FR Doc. 2018-02468 Filed 2-6-18; 8:45 am]

BILLING CODE 5001-10-P